DEPARTMENT OF COMMERCE

International Trade Administration

[A-560-837, A-475-843, A-557-819, A-791-826, A-469-821, A-723-001, A-823-817]

Prestressed Concrete Steel Wire Strand From Indonesia, Italy, Malaysia, South Africa, Spain, Tunisia, and Ukraine: Antidumping Duty Orders

AGENCY: Enforcement and Compliance, International Trade Administration, Department of Commerce.

SUMMARY: Based on affirmative final determinations by the Department of Commerce (Commerce) and the International Trade Commission (ITC), Commerce is issuing antidumping duty orders on prestressed concrete steel wire strand (PC strand) from Indonesia, Italy, Malaysia, South Africa, Spain, Tunisia, and Ukraine.

DATES: Applicable June 4, 2021.

FOR FURTHER INFORMATION CONTACT: Drew Jackson at (202) 482-4406 (Indonesia); Stephanie Berger at (202) 482-2483 (Italy); Justin Neuman at (202) 482-0486 (Malaysia); Jerry Huang at (202) 482-4047 (South Africa); Terre Keaton Stefanova at (202) 482-1280 (Spain); Eva Kim at (202) 482-8283 (Tunisia); Laura Griffith at (202) 482-6430 (Ukraine); AD/CVD Operations, Enforcement and Compliance, International Trade Administration, U.S. Department of Commerce, 1401 Constitution Avenue NW, Washington, DC 20230.

SUPPLEMENTARY INFORMATION:

Background

On April 9, 2021, Commerce published its affirmative final determinations in the less-than-fair-value (LTFV) investigations of PC strand from Indonesia, Italy, Malaysia, South Africa, Spain, Tunisia, and Ukraine.¹ On May 24, 2021, the ITC notified Commerce of its final determinations, pursuant to section 735(d) of the Tariff Act of 1930, as amended (the Act), that an industry in the United States is materially injured within the meaning of section 735(b)(1)(A)(i) of the Act by reason of LTFV imports of PC strand from Indonesia, Italy, Malaysia, South Africa, Spain, Tunisia, and Ukraine, and its negative critical circumstances finding with respect to dumped imports of PC strand from Indonesia.²

¹ See Prestressed Concrete Steel Wire Strand from Indonesia: Final Affirmative Determination of Sales at Less Than Fair Value, and Final Affirmative Determination of Critical Circumstances, In Part, 86 FR 18495 (April 9, 2021); Prestressed Concrete Steel Wire Strand from Italy: Final Affirmative Determination of Sales at Less Than Fair Value, and Final Negative Determination of Critical Circumstances, 86 FR 18505 (April 9, 2021); Prestressed Concrete Steel Wire Strand from Malaysia: Final Affirmative Determination of Sales at Less Than Fair Value, 86 FR 18502 (April 9, 2021); Prestressed Concrete Steel Wire Strand from South Africa: Final Affirmative Determination of Sales at Less Than Fair Value, 86 FR 18497 (April 9, 2021); Prestressed Concrete Steel Wire Strand from Spain: Final Affirmative Determination of Sales at Less Than Fair Value and Final Negative Determination of Critical Circumstances, 86 FR 18512 (April 9, 2021); Prestressed Concrete Steel Wire Strand from Tunisia: Final Affirmative Determination of Sales at Less Than Fair Value, 86 FR 18508 (April 9, 2021); Prestressed Concrete Steel Wire Strand from Ukraine: Final Affirmative Determination of Sales at Less Than Fair Value, and Final Negative Determination of Critical Circumstances, 86 FR 18498 (April 9, 2021) (collectively, Final Determinations).

² See ITC Letter, Notification of ITC Final Determinations in Investigation Nos. 731-TA-1505-1507, 1510-1511, 1513, and 1515 (Final), dated May 24, 2021.

Scope of the Orders

The products covered by these orders are PC strand from Indonesia, Italy, Malaysia, South Africa, Spain, Tunisia, and Ukraine. For a complete description of the scope of these orders, see the appendix to this notice.

Antidumping Duty Orders

On May 24, 2021, in accordance with section 735(d) of the Act, the ITC notified Commerce of its final determinations in these investigations, in which it found that an industry in the United States is materially injured within the meaning of section 735(b)(1)(A)(i) of the Act by reason of imports of PC strand from Indonesia, Italy, Malaysia, South Africa, Spain, Tunisia, and Ukraine.³ Therefore, in accordance with section 735(c)(2) of the Act, Commerce is issuing these antidumping duty orders. Because the ITC determined that imports of PC strand from Indonesia, Italy, Malaysia, South Africa, Spain, Tunisia, and Ukraine are materially injuring a U.S. industry, unliquidated entries of such merchandise from Indonesia, Italy, Malaysia, South Africa, Spain, Tunisia, and Ukraine, entered or withdrawn from warehouse for consumption, are subject to the assessment of antidumping duties.

³ Id.

Therefore, in accordance with section 736(a)(1) of the Act, Commerce will direct U.S. Customs and Border Protection (CBP) to assess, upon further instruction by Commerce, antidumping duties equal to the amount by which the normal value of the merchandise exceeds the export price (or constructed export price) of the merchandise, for all relevant entries of PC strand from Indonesia, Italy, Malaysia, South Africa, Spain, Tunisia, and Ukraine. With the exception of entries occurring after the expiration of the provisional measures period and before publication of the ITC's final affirmative injury determinations, as further described below, antidumping duties will be assessed on unliquidated entries of PC strand from Indonesia, Italy, Malaysia, South Africa, Spain, Tunisia, and Ukraine entered, or withdrawn from warehouse, for consumption, on or after November 19, 2020, the date of publication of the Preliminary Determinations.⁴

⁴ See Prestressed Concrete Steel Wire Strand from Indonesia: Preliminary Affirmative Determination of Sales at Less Than Fair Value, Preliminary Affirmative Determination of Critical Circumstances, in Part, Postponement of Final Determination, and Extension of Provisional Measures, 85 FR 73676 (November 19, 2020); Prestressed Concrete Steel Wire Strand from Italy: Preliminary Affirmative Determination of Sales at Less Than Fair Value, Preliminary Negative Determination of Critical Circumstances, Postponement of Final Determination, and Extension of Provisional Measures, 85 FR 73679 (November 19, 2020); Prestressed Concrete Steel Wire Strand from Malaysia: Preliminary Affirmative Determination of Sales at Less Than Fair Value, Postponement of Final Determination, and Extension of Provisional Measures, 85 FR 73685 (November 19, 2020); Prestressed Concrete Steel Wire Strand from South Africa: Preliminary Affirmative Determination of Sales at Less Than Fair Value, Postponement of Final Determination, and Extension of Provisional Measures, 85 FR 73674 (November 19, 2020); Prestressed Concrete Steel Wire Strand from Spain: Preliminary Affirmative Determination of Sales at Less Than Fair Value, Preliminary Negative Determination of Critical Circumstances, Postponement of Final Determination, and Extension of Provisional Measures, 85 FR 73683 (November 19, 2020); Prestressed Concrete Steel Wire Strand from Tunisia: Preliminary Affirmative Determination of Sales at Less Than Fair Value, Postponement of Final Determination, and Extension of Provisional Measures, 85 FR 73681 (November 19, 2020); and Prestressed Concrete Steel Wire Strand from Ukraine: Preliminary Affirmative Determination of Sales at Less Than Fair Value and Preliminary Negative Determination of Critical Circumstances, Postponement of Final Determination, and Extension of Provisional Measures, 85 FR 73688 (November 19, 2020) (collectively, Preliminary Determinations).

Continuation of Suspension of Liquidation

In accordance with section 736 of the Act, Commerce intends to instruct CBP to continue to suspend liquidation on all relevant entries of PC strand from Indonesia, Italy, Malaysia, South Africa, Spain, Tunisia, and Ukraine. These instructions suspending liquidation will remain in effect until further notice.

Commerce also intends to instruct CBP to require cash deposits equal to the estimated weighted-average dumping margins indicated in the tables below. Accordingly, effective on the date of publication in the Federal Register of the notice of the ITC's final affirmative injury determinations, CBP will require, at the same time as importers would normally deposit estimated duties on subject merchandise, a cash deposit equal to the rates listed below. The relevant all-others rate applies to all producers or exporters not specifically listed.

Critical Circumstances

With regard to the ITC's negative critical circumstances determination on imports of PC strand from Indonesia, we intend to instruct CBP to lift suspension and to refund any cash deposits made to secure the payment of estimated antidumping duties with respect to entries of the subject merchandise entered, or withdrawn from warehouse, for consumption on or after August 21, 2020 (i.e., 90 days prior to the date of the publication of the Preliminary Determinations), but before November 19, 2020 (i.e., the date of publication of the Preliminary Determinations).

Provisional Measures

Section 733(d) of the Act states that suspension of liquidation pursuant to an affirmative preliminary determination may not remain in effect for more than four months, except where exporters representing a significant proportion of exports of the subject merchandise request that Commerce extend the four-month period to no more than six months. At the request of exporters that account for a significant proportion of PC strand from Indonesia, Italy, Malaysia, South Africa, Spain, Tunisia, and Ukraine, Commerce extended the four-month period to six months in each of these investigations. Commerce published the preliminary determinations in these investigations on November 19, 2020.⁵

⁵ See Preliminary Determinations.

The extended provisional measures period, beginning on the date of publication of the Preliminary Determinations, ends on May 17, 2021. Therefore, in accordance with section 733(d) of the Act and our practice,⁶ Commerce intends to instruct CBP to terminate the suspension of liquidation and to liquidate, without regard to antidumping duties, unliquidated entries of PC strand from Indonesia, Italy, Malaysia, South Africa, Spain, Tunisia, and Ukraine entered, or withdrawn from warehouse, for consumption after May 17, 2021, the final day on which the provisional measures were in effect, until and through the day preceding the date of publication of the ITC's final affirmative injury determinations in the Federal Register. Suspension of liquidation and the collection of cash deposits will resume on the date of publication of the ITC's final determinations in the Federal Register.

⁶ See, e.g., Certain Corrosion-Resistant Steel Products from India, India, the People's Republic of China, the Republic of Korea and Taiwan: Amended Final Affirmative Antidumping Determination for India and Taiwan, and Antidumping Duty Orders, 81 FR 48390, 48392 (July 25, 2016).

Estimated Weighted-Average Dumping Margins

The estimated weighted-average dumping margins are as follows:

Exporter/producer | Estimated weighted-average dumping margin (percent)
Indonesia
P.T. Kingdom Indah | 5.76
PT. Bumi Steel Indonesia aka PT. Bumi Nindyyacipta | 72.28
All Others | 5.76
Italy
WBO Italcables Societa Cooperativa | 3.59
CB Trafilati Acciai S.p.A | 19.26
All Others | 3.59
Malaysia
Kiswire Sdn. Bhd | 3.94
Southern PC Steel Sdn. Bhd | 26.95
Wei Dat Steel Wire Sdn. Bhd | 6.42
All Others | 5.13
South Africa
Scaw Metals Group | 155.10
All Others | 155.10
Spain
Global Special Steel Products S.A.U. (d.b.a. Trenzas y Cables de Acero PSC, S.L. (TYCSA)) | 14.75
All Others | 14.75
Tunisia
Maklada Industries and Maklada SA | 30.58
All Others | 30.58
Ukraine
PJSC PA Stalkanat-Silur | 19.30
All Others | 19.30

Notification to Interested Parties

This notice constitutes the antidumping duty orders with respect to PC strand from Indonesia, Italy, Malaysia, South Africa, Spain, Tunisia, and Ukraine pursuant to section 736(a) of the Act. Interested parties can find a list of antidumping duty orders currently in effect at http://enforcement.trade.gov/stats/iastats1.html.

These antidumping duty orders are published in accordance with section 736(a) of the Act and 19 CFR 351.211(b).

Dated: May 28, 2021.
Christian Marsh,
Acting Assistant Secretary for Enforcement and Compliance.

Appendix—Scope of the Orders

The products covered by these orders are prestressed concrete steel wire strand (PC strand), produced from wire of non-stainless, non-galvanized steel, which is suitable for use in prestressed concrete (both pretensioned and post-tensioned) applications. The product definition encompasses covered and uncovered strand and all types, grades, and diameters of PC strand. PC strand is normally sold in the United States in sizes ranging from 0.25 inches to 0.70 inches in diameter. PC strand made from galvanized wire is only excluded from the scope if the zinc and/or zinc oxide coating meets or exceeds the 0.40 oz./ft² standard set forth in ASTM-A-475.

The PC strand subject to these orders are currently classifiable under subheadings 7312.10.3010 and 7312.10.3012 of the Harmonized Tariff Schedule of the United States (HTSUS). Although the HTSUS subheadings are provided for convenience and customs purposes, the written description of the scope of these orders is dispositive.

[FR Doc. 2021-11760 Filed 6-3-21; 8:45 am]

BILLING CODE 3510-DS-P